DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following proposed information collection to the Office of Management and Budget for review and clearance in accordance with the requirements of the Paperwork Reduction Act of 1995 (44 U.S.C. 3507).

Title: General Admissions Application (Long and Short Forms) and Stipend Forms.

Type of Information Collection: Revision of a currently approved collection.

OMB Number: 1660-0007.

Abstract: Students use the following FEMA forms to apply to National Fire Academy and Emergency Management Institute courses:

a. FEMA Form 75-5, General Admissions Application, to admit applicants to courses and programs offered at National Emergency Training Center (NETC), MWEOC and various locations throughout the United States. Applicants complete FEMA Form 75-5 and send it to the Office of Admissions. NETC personnel use the application to determine eligibility for courses and programs offered by NFA and EMI.

b. FEMA Form 75-5a, General Admissions Application Short Form, to admit applicants to courses and programs offered at NETC, MWEOC, and various locations throughout the United States. Applicants use these forms only when NETC personnel do not need to determine eligibility for courses and programs offered by NFA and EMI. Both forms 75-5 and 75-5a are currently available electronically for downloading, filling out, and printing.

c. FEMA Forms 75-3 and 75-3A Student Stipend Agreement and Student Stipend Agreement (Amendment), respectively, will also be available to students electronically since it constitutes a part of the application and admission process for which forms 75-5 and 75-5a will be used.

Affected Public: Individuals or households, Business or other for-profit, Not-for-profit institutions, Federal Government, and State, local or tribal government.

Number of Respondents: 205,000.

Estimated Time per Respondent: FEMA Form 75-5, 9 minutes for the paper version and 10 minutes for the automated version; FEMA Form 75-5a, 6 minutes for the paper version and 8 minutes for the automated version; FEMA Form 75-3 and FEMA Form 75-3a, 2 minutes each.

Estimated Total Annual Burden Hours: 34,166 hours.

Frequency of Response: One-time.

Comments: Interested persons are invited to submit written comments on the proposed information collection to FEMA's Desk Officer at the Office of Management and Budget at e-mail address: David_Rostker@omb.eop.gov within 30 days of the date of this notice.

FOR FURTHER INFORMATION CONTACT: Contact Muriel B. Anderson, Chief, Records Management Branch at e-mail address: InformationCollections@dhs.gov to requests additional information or copies of the information collection.

Dated: November 4, 2003.
Edward W. Kernan,
Division Director, Information Resources Management Division, Information Technology Services Directorate.

[FR Doc. 03-28169 Filed 11-7-03; 8:45 am]

BILLING CODE 9110-07-P